DEPARTMENT OF TRANSPORTATION

Coast Guard

33 CFR Part 100

[CGD11-02-004]

RIN 2115-AE46

Special Local Regulations; San Diego Thunderboat Regatta

AGENCY: Coast Guard, DOT.

ACTION: Notice of implementation of regulation.

SUMMARY: The Coast Guard is implementing special local regulations for the Thunderboat Regatta, one of the Southern California annual marine events. The name of this event has formally changed to San Diego Thunderboat Regatta. This action is necessary to control vessel traffic in the regulated areas during the event to ensure the safety of participants and spectators.

EFFECTIVE DATES: The special local regulations for the Thunderboat Regatta (§ 100.1101) will be enforced from 7:30 a.m. on September 20, 2002 until 5:30 p.m. September 22, 2002.

FOR FURTHER INFORMATION CONTACT: Petty Officer Austin Murai, U.S. Coast Guard Marine Safety Office San Diego, San Diego, California; Telephone: (619) 683-6495.

SUPPLEMENTARY INFORMATION: The Coast Guard is implementing a permanent special local regulation in 33 CFR 100.1101, for a marine event. The following special local regulation will be enforced in the month of September:

Thunderboat Regatta. This special local regulation will be enforced from 7:30 a.m. on September 20, 2002 until 5:30 p.m. on September 22, 2002.

These special local regulations permit Coast Guard control of vessel traffic in order to ensure the safety of spectator and participant vessels. In accordance with the regulations in 33 CFR 100.1101, all persons and/or vessels not registered with the sponsor as participants or official patrol vessels are considered spectators. The “official patrol” consists of any Coast Guard, public, state or local law enforcement and sponsor-provided vessels assigned or approved, by Commander, Eleventh Coast Guard District to patrol each event. No spectators shall anchor, block, loiter in, or impede the through transit of participants or official patrol vessels in the regulated area during the effective dates and times, unless cleared for such entry by or through an official patrol vessel. When hailed or signaled by an official patrol vessel, a spectator must come to an immediate stop. Vessels must comply with all directions given, failure to do so may result in a citation.

Dated: July 31, 2002.
T.S. Sullivan,
Captain, U. S. Coast Guard, Acting Commander, Eleventh Coast, Guard District.

[FR Doc. 02-20953 Filed 8-16-02; 8:45 am]

BILLING CODE 4910-15-P